COMMODITY FUTURES TRADING COMMISSION

Renewal of the Global Markets Advisory Committee

AGENCY: Commodity Futures Trading Commission.

ACTION: Notice of Federal Advisory Committee Renewal.

SUMMARY: The Commodity Futures Trading Commission has determined to renew the charter of its Global Markets Advisory Committee.

FOR FURTHER INFORMATION CONTACT: Martin B. White, Committee Management Officer, at 202-418-5129. Written comments should be submitted to David A. Stawick, Secretary, Commodity Futures Trading Commission, Three Lafayette Centre, 1155 21st Street, NW., Washington, DC 20581. Electronic comments may be submitted to the Commission's Committee Management Officer, Martin White at mwhite@cftc.gov until a Designated Federal Officer is appointed.

SUPPLEMENTARY INFORMATION: The Commodity Futures Trading Commission (“Commission”) has determined to renew its Global Markets Advisory Committee. The Commission has determined that renewing the advisory committee is in the public interest in connection with the duties imposed on the Commission by the Commodity Exchange Act, 7 U.S.C. 1-25, as amended. The Global Markets Advisory Committee will operate for two years from the date of renewal unless, before the expiration of that time period, its charter is renewed in accordance with section 14(a)(2) of the Federal Advisory Committee Act, or the Chairman of the Commission, with the concurrence of the other Commissioners, shall direct that the advisory committee terminate on an earlier date.

The purpose of the Global Markets Advisory Committee is to conduct public meetings and to submit reports and recommendations on matters of public concern to the exchanges, firms, market users, and the Commission regarding the regulatory challenges of a global marketplace. The advisory committee will help the Commission determine how it can avoid unnecessary regulatory or operational impediments to global business while still preserving core protections for customers and other market participants. The advisory committee will also make recommendations for appropriate international standards for regulating futures and derivatives markets, as well as intermediaries. Additionally, the advisory committee will assist the Commission in identifying methods to improve both domestic and international regulatory structures while continuing to allow U.S. markets and firms to remain competitive in the global market. These duties will allow the Commission to better promote its mission of protecting market users and the public from abusive practices, and help to foster open, competitive, and financially sound futures and options markets. Meetings of the Global Markets Advisory Committee are open to the public.

The Global Markets Advisory Committee may be renewed by filing a renewal charter with the Commission; the Senate Committee on Agriculture, Nutrition and Forestry; the House Committee on Agriculture; the Library of Congress; and the General Services Administration's Committee Management Secretariat concurrently with the publication of the notice of renewal in the Federal Register. A copy of the renewal charter also will be posted on the Commission's Web site at http://www.cftc.gov.

Issued in Washington, DC, on June 10, 2010, by the Commission.
David A. Stawick,
Secretary of the Commission.

[FR Doc. 2010-14421 Filed 6-14-10; 8:45 am]

BILLING CODE P